FEDERAL ELECTION COMMISSION

Sunshine Act Meeting

AGENCY: Federal Election Commission

DATE AND TIME: Tuesday, July 14, 2015 at 10:00 a.m. and its continuation on Thursday, July 16, 2015 at the conclusion of the open meeting.

PLACE: 999 E Street NW., Washington, DC.

STATUS: This meeting will be closed to the public.

Federal Register Notice of Previous Announcement—80 FR 39432.

CHANGE IN THE MEETING: This meeting was continued at 1:00 p.m. on August 10, 2015.

* * * * *

PERSON TO CONTACT FOR INFORMATION: Judith Ingram, Press Officer, Telephone: (202) 694-1220.

Shelley E. Garr,
Deputy Secretary.

[FR Doc. 2015-19984 Filed 8-10-15; 4:15 pm]

BILLING CODE 6715-01-P